NATIONAL AERONAUTICS AND SPACE ADMINISTRATION

[Notice (06-063)]

National Environmental Policy Act; Mars Science Laboratory Mission

AGENCY: National Aeronautics and Space Administration (NASA).

ACTION: Notice of availability of draft environmental impact statement (DEIS) for implementation of the Mars Science Laboratory (MSL) mission.

SUMMARY: Pursuant to the National Environmental Policy Act of 1969, as amended, (NEPA) (42 U.S.C. 4321 et seq.), the Council on Environmental Quality Regulations for Implementing the Procedural Provisions of NEPA (40 CFR Parts 1500-1508), and NASA policy and procedures (14 CFR Part 1216 subpart 1216.3), NASA has prepared and issued a DEIS for the proposed MSL mission. The DEIS addresses the potential environmental impacts associated with implementing the mission. The purpose of this proposal is to explore the surface of Mars with a mobile science laboratory (rover). This environmental impact statement (EIS) is a tiered document (Tier 2 EIS) under NASA's Programmatic EIS for the Mars Exploration Program (MEP). The DEIS presents descriptions of the proposed MSL mission, spacecraft, and candidate launch vehicle; an overview of the affected environment at and near the launch site; and the potential environmental consequences associated with the Proposed Action and alternatives, including the No Action Alternative.

The MSL mission is planned for launch during the September-November 2009 time period from Cape Canaveral Air Force Station (CCAFS), Florida, on an expendable launch vehicle. The arrival date at Mars would range from mid-July 2010 to not later than mid-October 2010, depending on the exact launch date and selected landing site, yet to be determined, on the surface of Mars. Using advanced instrumentation, the MSL rover would acquire significant, detailed information regarding the habitability of Mars from a scientifically promising location on the surface. The mission would also fulfill NASA's strategic technology goals of increasing the mass of science payloads delivered to the surface of Mars, expanding access to higher and lower latitudes, increasing precision landing capability, and increasing traverse capability (mobility) to distances on the order of several kilometers.

The DEIS evaluates two alternatives in addition to the No Action Alternative. Under the Proposed Action (Alternative 1), the proposed MSL rover would utilize a radioisotope power system, a Multi-Mission Radioisotope Thermoelectric Generator (MMRTG), as its primary source of electrical power to operate and conduct science on the surface of Mars. Under Alternative 2, an MSL rover would utilize solar energy as its primary source of electrical power to operate and conduct science on the surface of Mars.

DATES: Written comments on the DEIS must be received by NASA no later than October 23, 2006, or 45 days from the date of publication in the Federal Register of the U.S. Environmental Protection Agency's notice of availability of the MSL DEIS, whichever is later.

ADDRESSES: Comments submitted via first class, registered, or certified mail should be addressed to Mark R. Dahl, Mail Suite 3X63, Planetary Science Division, Science Mission Directorate, NASA Headquarters, 300 E Street SW., Washington, DC 20546-0001. Comments submitted via express mail, a commercial deliverer, or courier service should be addressed to Mark R. Dahl, Mail Suite 3X63, Planetary Science Division, Science Mission Directorate, Attn: Receiving & Inspection (Rear of Building), NASA Headquarters, 300 E Street SW., Washington, DC 20024-3210. While hard copy comments are preferred, comments may be sent by electronic mail to mep.nepa@hq.nasa.gov.

The DEIS may be reviewed at the following locations:

(a) NASA Headquarters, Library, Room 1J20, 300 E Street, SW., Washington, DC 20546;

(b) Jet Propulsion Laboratory, Visitors Lobby, Building 249, 4800 Oak Grove Drive, Pasadena, CA 91109.

Hard copies of the DEIS also may be examined at other NASA Centers (see SUPPLEMENTARY INFORMATION below).

Limited hard copies of the DEIS are available, on a first request basis, by contacting Mark R. Dahl at the address, telephone number, or electronic mail address indicated herein. The DEIS is also available in Adobe® portable document format at http://spacescience.nasa.gov/admin/pubs/msl/index.htm.

FOR FURTHER INFORMATION CONTACT: Mark R. Dahl, Planetary Science Division, Science Mission Directorate, NASA Headquarters, Washington, DC 20546-0001, telephone 202-358-4800, or electronic mail mep.nepa@hq.nasa.gov.

SUPPLEMENTARY INFORMATION: The MEP is currently being implemented as a sustained series of flight missions to Mars, each of which will provide important, focused scientific return. The MEP is fundamentally a science driven program whose focus is on understanding and characterizing Mars as a dynamic system and ultimately addressing whether life is or was ever a part of that system. The core MEP addresses the highest priority scientific investigations directly related to the Program goals and objectives. MSL investigations would be a means of addressing several of the high-priority scientific investigations recommended to NASA by the planetary science community.

The overall scientific goals of the MSL mission can be divided into four areas: (1) Assess the biological potential of at least one selected site on Mars, (2) characterize the geology and geochemistry of the landing region at all appropriate spatial scales, (3) investigate planetary processes of relevance to past habitability, and (4) characterize the broad spectrum of the Martian surface radiation environment. The following specific objectives are planned for the mission to address these goals:

—Determine the nature and inventory of organic carbon compounds;

—Inventory the chemical building blocks of life (carbon, hydrogen, nitrogen, oxygen, phosphorus, and sulfur);

—Identify features that may represent the effects of biological processes;

—Investigate the chemical, isotopic, and mineralogical composition of Martian surface and near-surface geological materials;

—Interpret the processes that have formed and modified rocks and regolith;

—assess long-timescale (i.e., 4-billion-year) atmospheric evolution processes; and

—Determine the present state, distribution, and cycling of water and carbon dioxide.

The proposed MSL mission would utilize a rover with advanced instrumentation to acquire significant detailed information regarding the habitability of Mars from a scientifically promising location. The mission would also fulfill NASA's strategic technology goals of increasing the mass of science payloads delivered to the surface of Mars, expanding access to higher and lower latitudes, increasing precision landing capability, and increasing traverse capability (mobility) to distances on the order of several kilometers.

Mobility is essential because evidence for past or present life on Mars will very likely not be so abundant or widespread that it will be available in the immediate vicinity of the selected landing site. Without the mobility necessary to conduct in situ exploration, it may not be possible to uniquely characterize a target location.

The Proposed Action (Alternative 1) consists of continuing preparations for and implementing the MSL mission to Mars. The proposed MSL rover would utilize a MMRTG as its primary source of electrical power to operate and conduct science on the surface of Mars. Under Alternative 2, NASA would discontinue preparations for the Proposed Action (Alternative 1) and implement an alternative MSL mission to Mars. The alternative MSL rover would utilize solar energy as its primary source of electrical power to operate and conduct science on the surface of Mars. With either the Proposed Action (Alternative 1) or Alternative 2, the MSL spacecraft would be launched on board an expendable launch vehicle from CCAFS, Florida during the September-November 2009 time period. Under the No Action Alternative, NASA would discontinue preparations for the MSL mission, and the spacecraft would not be launched. With either the Proposed Action (Alternative 1) or Alternative 2, the potentially affected environment for a normal launch includes the area at and in the vicinity of the launch site, CCAFS in Florida. The environmental impacts of a normal launch of the mission for either alternative would be associated principally with the exhaust emissions from the expendable launch vehicle. These effects would include: (1) Short-term impacts on air quality within the exhaust cloud and near the launch pad, and (2) the potential for acidic deposition on the vegetation and surface water bodies at and near the launch complex.

Potential launch accidents could result in the release of some of the radioactive material on board the spacecraft. The MMRTG planned for use on the rover for the Proposed Action (Alternative 1) would use plutonium dioxide, with a radioisotope inventory of approximately 58,700 curies, to provide electrical power. For either alternative, two of the science instruments on the rover would use small quantities of radioactive material, totaling approximately two curies, for instrument calibration or science experiments.

The U.S. Department of Energy (DOE), in cooperation with NASA, has performed a risk assessment of potential accidents for the MSL mission. This assessment used a methodology refined through applications to the Galileo, Ulysses, Cassini, Mars Exploration Rover, and New Horizons missions. DOE's risk assessment for the proposed MSL mission indicates that in the event of a launch accident the expected impacts of released radioactive material at and in the vicinity of the launch area, and on a global basis, would be small. Alternative 2 would not involve any MMRTG-associated radiological risks since an MMRTG would not be used for this mission alternative.

NASA will hold public comment meetings during which the public is invited to participate in an open exchange of information and submission of comments on the DEIS. Each public meeting will begin with an opportunity for informal discussions with project personnel, followed by a brief NASA presentation on the MSL mission, and conclude with the submission of formal comments, both written and oral. These meetings will be held on:

—September 27, 2006, from 1 p.m.-4 p.m. and 6 p.m.-9 p.m. at the Florida Solar Energy Center; H. George Carrison Auditorium; 1679 Clearlake Road, Cocoa, Florida 32922;

—October 10, 2006, from 1 p.m.-4 p.m. at the Hyatt Regency Washington on Capitol Hill; Congressional Room A; 400 New Jersey Avenue, NW., Washington, DC 20001.

Further information on the public meetings can be obtained by contacting Mark R. Dahl at the address or telephone number indicated herein, or by visiting the MSL DEIS Web site at: http://spacescience.nasa.gov/admin/pubs/msl/index.htm. Advanced registration for attending any of the meetings is not required.

The FEIS may be examined at the following NASA locations by contacting the pertinent Freedom of Information Office:

(a) NASA, Ames Research Center, Moffett Field, CA 94035 (650-604-3273);

(b) NASA, Dryden Flight Research Center, Edwards, CA 93523 (661-276-2704);

(c) NASA, Glenn Research Center at Lewis Field, Cleveland, OH 44135 (216-433-2813);

(d) NASA, Goddard Space Flight Center, Greenbelt, MD 20771 (301-286-4721);

(e) NASA, Johnson Space Center, Houston, TX 77058 (281-483-8612);

(f) NASA, Kennedy Space Center, FL 32899 (321-867-9280);

(g) NASA, Langley Research Center, Hampton, VA 23681 (757-864-2497);

(h) NASA, Marshall Space Flight Center, Huntsville, AL 35812 (256-544-1837); and

(i) NASA, Stennis Space Center, MS 39529 (228-688-2118).

Any person, organization, or governmental body or agency interested in receiving a copy of NASA's Record of Decision after it is rendered should so indicate by mail or electronic mail to Mr. Dahl at the addresses provided above.

Written public input and comments on alternatives and environmental issues and concerns associated with the proposed Mars Science Laboratory mission are hereby requested.

Olga M. Dominguez,
Assistant Administrator for Infrastructure and Administration.

[FR Doc. E6-14649 Filed 9-1-06; 8:45 am]

BILLING CODE 7510-13-P